DEPARTMENT OF DEFENSE

Department of the Navy

Notice of Proposed Conveyance of Excess Land at Naval Air Station, Oceana, VA, in Exchange for a Restrictive Easement Pursuant to 10 U.S.C. 2869

AGENCY: Department of the Navy, DoD.

ACTION: Notice.

SUMMARY: This notice provides information on the proposed conveyance of excess land at the Naval Air Station, Oceana, Virginia, in exchange for a restrictive easement to limit encroachment.

FOR FURTHER INFORMATION CONTACT: Ms. Lisa Grossman; Naval Facilities Engineering Command; 1322 Patterson Avenue, SE., Suite 1000; Washington Navy Yard, DC 20374-5065; telephone: 202-685-9205. For information concerning real estate, contact Ms. Patty Hankins, Realty Specialist; Naval Facilities Engineering Command, Mid-Atlantic; 9742 Maryland Avenue; Norfolk, Virginia 23511-3095; telephone: 757-445-6921.

SUPPLEMENTARY INFORMATION: Pursuant to the authority of 10 U.S.C. 2684a, the Department of the Navy and the City of Virginia Beach (City), Virginia, entered into a Multi-Year Agreement (MYA) to acquire long-term interests in lands within the vicinity of Naval Air Station, Oceana, Virginia, and Naval Auxiliary Landing Field, Fentress, Chesapeake, Virginia. The goal of the MYA is to acquire real property interests in the vicinity of the Installations for purposes that are consistent with their land and natural resources conservation objectives, preservation goals, and to prevent encroachment and land development that is incompatible with the mission of the Installations.

10 U.S.C. 2869 provides authority for the Navy to convey excess property at an Installation in exchange for property interests to be acquired under the terms of an encroachment protection agreement executed in accordance with 10 U.S.C. 2684a. The Navy proposes to convey approximately 82 acres of excess land, referred to as Marshview, to the City in exchange for a restrictive easement interest over approximately 46.59 acres of City-owned land located within the area of interest identified in the MYA as ideal for encroachment protection. The Marshview property will be conveyed in fee with deed restrictions limiting the property's future use to a public park with passive recreational use only. The restrictive easement to be acquired by the Navy will limit the type and amount of development, as well as the activities that may be conducted on the land.

Dated: September 15, 2008.
T.M. Cruz,
Lieutenant Commander, Judge Advocate General's Corps, U.S. Navy, Federal Register Liaison Officer.

[FR Doc. E8-22038 Filed 9-19-08; 8:45 am]

BILLING CODE 3810-FF-P